COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List services to be furnished by nonprofit agencies employing persons who are blind or have other severe disabilities.

EFFECTIVE DATE: February 23, 2000.

ADDRESS: Committee for Purchase From People Who Are Blind or Severely Disabled, Crystal Gateway 3, Suite 310, 1215 Jefferson Davis Highway, Arlington, Virginia 22202-4302.

FOR FURTHER INFORMATION CONTACT: Leon A. Wilson, Jr. (703) 603-7740.

SUPPLEMENTARY INFORMATION: On November 29 and December 10, 1999, the Committee for Purchase From People Who Are Blind or Severely Disabled published notices (64 FR 69225 and 66611) of proposed additions to the Procurement List.

The Following Comments Pertain to Grounds Maintenance/Vegetation Control, Concord Naval Weapons Station, Concord, California

Comments were received from the current contractor for this service in response to a request for sales data. The contractor indicated that losing this contract would have a severe adverse impact on the company because of the percentage of the company's total sales it represents and because the company would be unable to replace the lost revenue with a similar contract “anytime soon.” The percentage of the company's total sales which its contract for this service represents is well below the level which the Committee normally considers to constitute severe adverse impact on a company which loses a service to the Procurement List. In addition, the contractor's uncertainty about when it would be able to replace the lost revenue indicates that the possibility of mitigating the less than severe impact it will experience is not a remote one. Consequently, the Committee believes that addition of this service to the Procurement List will not have a severe adverse impact on the company.

The Following Material Pertains to the Two Services Being Added to the Procurement List:

After consideration of the material presented to it concerning capability of qualified nonprofit agencies to provide the services and impact of the additions on the current or most recent contractors, the Committee has determined that the services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the services to the Government.

2. The action will not have a severe economic impact on current contractors for the services.

3. The action will result in authorizing small entities to furnish the services to the Government.

4. There are no known regulatory alternatives which would accomplish the objectives of the Javits-Wagner-O'Day Act (41 U.S.C. 46—48c) in connection with the services proposed for addition to the Procurement List.

Accordingly, the following services are hereby added to the Procurement List:

Grounds Maintenance/Vegetation Control, Concord Naval Weapons Station, Concord, Calfornia.

Janitorial/Grounds Maintenance, U.S. Department of Agriculture, U.S. Horticultural Research Laboratory, Fort Pierce, Florida.

This action does not affect current contracts awarded prior to the effective date of this addition or options that may be exercised under those contracts.

Louis R. Bartalot,
Deputy Director (Operations).

[FR Doc. 00-1485 Filed 1-20-00; 8:45 am]

BILLING CODE 6353-01-P